DEPARTMENT OF COMMERCE

International Trade Administration

[A-475-818]

Certain Pasta from Italy: Notice of Amended Final Results of the Twelfth Antidumping Duty Administrative Review

AGENCY: Import Administration, International Trade Administration, Department of Commerce.

SUMMARY: On February 9, 2010, the Department of Commerce (the Department) published its final results of the twelfth administrative review for certain pasta from Italy for the period of review (POR) of July 1, 2007, through June 30, 2008. See Certain Pasta from Italy: Notice of Final Results of the Twelfth Administrative Review, 75 FR 6352 (February 9, 2010) (Final Results). We are amending our final results to correct ministerial errors made in the calculation of the dumping margins for Pastificio Lucio Garofalo S.p.A.(Garofalo) and PAM S.p.A. (PAM), pursuant to section 751(h) of the Tariff Act of 1930, as amended (the Act).

EFFECTIVE DATE: March 10, 2010.

FOR FURTHER INFORMATION CONTACT: Christopher Hargett, AD/CVD Operations, Office 3, Import Administration, International Trade Administration, U.S. Department of Commerce, 14th Street and Constitution Avenue NW, Washington, DC 20230; telephone: (202) 482-4161.

SUPPLEMENTARY INFORMATION:

Background

On February 9, 2010, the Department published the final results of this administrative review. On February 9 and February 12, 2010, pursuant to 19 CFR 351.224(c), PAM and Garofalo submitted comments alleging ministerial errors, and requested that the Department correct these alleged ministerial errors. On February 18, 2010, petitioners submitted rebuttal briefs to PAM's ministerial error allegation. No party submitted comments regarding Garofalo's request to correct alleged ministerial errors.

Scope of the Order

Imports covered by this order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded are imports of organic pasta from Italy that are accompanied by the appropriate certificate issued by the Instituto Mediterraneo Di Certificazione, by QC&I International Services, by Ecocert Italia, by Consorzio per il Controllo dei Prodotti Biologici, by Associazione Italiana per l'Agricoltura Biologica, by Codex S.r.L., by Bioagricert S.r.L., or by Instituto per la Certificazione Etica e Ambientale. Effective July 1, 2008, gluten free pasta is also excluded from this order. See Certain Pasta from Italy: Notice of Final Results of Antidumping Duty Changed Circumstances Review and Revocation, in Part, 74 FR 41120 (August 14, 2009). The merchandise subject to this order is currently classifiable under items 1902.19.20 and 1901.90.9095 of the Harmonized Tariff Schedule of the United States (HTSUS). Although the HTSUS subheadings are provided for convenience and customs purposes, the written description of the merchandise subject to the order is dispositive.

Amended Final Results of Review

In the Final Results, the Department incorrectly stated that it would apply the average percent margin of the two reviewed companies in this review to all companies that were not selected as mandatory respondents for the period July 1, 2006, through June 30, 2007. The Department intended to apply and in fact applied the average to the instant POR of July 1, 2007 through June 30, 2008, because the calculations were based on the actual factual information for this period.

Garofalo

After analyzing Garofalo's comments, we have determined, in accordance with section 751(h) of Act and 19 CFR 351.224, that the Department made ministerial errors in the Final Results calculation for Garofalo in this administrative review. See Allegations of Clerical Errors Memorandum dated February 26, 2010 (Clerical Error Memo).

First, the Department made a clerical error by using the wrong currency to convert Garofalo's reported warehousing costs (DWAREHU) in the Final Results. During the Final Results, the Department's attempt to convert Garofalo's reported DWAREHU from Euro/Kg to USD/Kg was done incorrectly. The exchange rate conversion the Department attempted to update in Garofalo's margin program was not correctly applied. For the amended final results, the Department made the correction to the submitted field DWAREHU before the conversion of this field into USD/Kg of the margin program.

Second, the Department incorrectly implemented certain verification changes in the calculation of Garofalo's home market freight revenue (FRTREVH) during the Final Results. For the amended final results, the Department hard-coded these changes to the comparison market program as correctly referenced in attachment 8 of Exhibit 1 in Garofalo's Verification Report.

Third, the Department used incorrect exchange factors during the Final Results in converting Garofalo's reported U.S. brokerage. The Department verified the values reported in Garofalo's reported USBROKU during the sales verification of Garofalo as being incurred in USD/Kg. During the Final Results, however, the Department inadvertently treated Garofalo's USBROKU as being reported in Euro/Kg. The Department treated this variable as being incurred in USD/Kg in the margin calculations for the amended final results.

PAM

After analyzing PAM's comments, and as more fully explained in the Clerical Error Memo, we have determined, in accordance with section 751(h) of the Act and 19 CFR 351.224, that the Department made ministerial errors in the Final Results calculation for PAM in this administrative review. The Department finds that it inadvertently used incorrect entered value data for entries made by PAM during the POR. Specifically, the Department erred by not adding transport recovery to the U.S. price for the entered value calculation for entries made by PAM, while including the transport recovery for other importers. Accordingly, it is clear that the Department intended to make this adjustment and our failure to do so was a clerical error. Thus, for the amended Final Results the Department has calculated entered value including the transport recovery for entries made by PAM, consistent with how it calculated entered value for entries made by companies other than PAM. Although, this does not affect the average margin, it does affect the importer specific assessment rates.

In accordance with section 751(h) of the Act, we are amending the final results of the antidumping duty administrative review of certain pasta from Italy for the period July 1, 2007, through June 30, 2008. As a result of correcting the ministerial errors discussed above, and in the company-specific memos listed above, the following margins apply:

Company | Final Margin | Amended Final Margin
Garofalo | 16.26 | 15.87
PAM | 8.54 | 8.54
Review - Specific Average¹ | 12.40 | 12.21
¹ Because there are only two respondents for which a company-specific margin was calculated in this review, the Department has calculated a simple average margin to ensure that the total import quantity and value for each company is not inadvertently revealed.

Assessment

The Department will determine, and U.S. Customs and Border Protection (CBP) shall assess, antidumping duties on all appropriate entries, pursuant to 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department intends to issue appropriate assessment instructions directly to CBP 15 days after publication of these amended final results of review.

The Department clarified its “automatic assessment'” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the amended final results of this administrative review for all shipments of certain pasta from Italy entered, or withdrawn from warehouse, for consumption on or after the publication date of these amended final results, as provided by section 751(a) of the Act: (1) for companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 15.45 percent, the all-others rate established in the less-than-fair-value investigation. These deposit requirements shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

These amended final results of administrative review and notice are issued and published in accordance with sections 751(a)(1) and (h), and 777(i)(1) of the Act, and 19 CFR 351.224.

Dated: March 3, 2010.
Carole A. Showers,
Acting Deputy Assistant Secretary for Import Administration.

[FR Doc. 2010-5124 Filed 3-9-10; 8:45 am]

BILLING CODE 3510-DS-S